DEPARTMENT OF THE INTERIOR

Office of the Secretary

25 CFR Ch. I

30 CFR Chs. II and VII

36 CFR Ch. I

43 CFR Subtitle A, Chs. I and II

48 CFR Ch. 14

50 CFR Chs. I and IV

[167D0102DM; DS6CS00000; DLSN00000.00000; DX6CS25]

Semiannual Regulatory Agenda

AGENCY: Office of the Secretary, Interior.

ACTION: Semiannual regulatory agenda.

SUMMARY: This notice provides the semiannual agenda of Department of the Interior (Department) rules scheduled for review or development between spring 2018 and spring 2019. The Regulatory Flexibility Act and Executive Order 12866 require publication of the agenda.

ADDRESSES: Unless otherwise indicated, all agency contacts are located at the Department of the Interior, 1849 C Street NW, Washington, DC 20240.

FOR FURTHER INFORMATION CONTACT: Please direct all comments and inquiries about these rules to the appropriate agency contact. Please direct general comments relating to the agenda to the Office of Executive Secretariat and Regulatory Affairs, Department of the Interior, at the address above or at (202) 208-5257.

SUPPLEMENTARY INFORMATION: With this publication, the Department satisfies the requirement of Executive Order 12866 that the Department publish an agenda of rules that we have issued or expect to issue and of currently effective rules that we have scheduled for review.

Simultaneously, the Department meets the requirement of the Regulatory Flexibility Act (5 U.S.C. 601 et seq.) to publish an agenda in April and October of each year identifying rules that will have significant economic effects on a substantial number of small entities. We have specifically identified in the agenda rules that will have such effects. The complete Unified Agenda will be published at www.reginfo.gov, in a format that offers users enhanced ability to obtain information from the agenda database. Agenda information is also available at www.regulations.gov, the government-wide website for submission of comments on proposed regulations.

In some cases, the Department has withdrawn rules that were placed on previous agendas for which there has been no publication activity or for which a proposed or interim rule was published. There is no legal significance to the omission of an item from this agenda. Withdrawal of a rule does not necessarily mean that the Department will not proceed with the rulemaking. Withdrawal allows the Department to assess the action further and determine whether rulemaking is appropriate. Following such an assessment, the Department may determine that certain rules listed as withdrawn under this agenda are appropriate for promulgation. If that determination is made, such rules will comply with Executive Order 13771.

Juliette Lillie,
Director, Executive Secretariat and Regulatory Affairs.

Bureau of Safety and Environmental Enforcement—Proposed Rule Stage
Sequence No. | Title | Regulation Identifier No.
138 | Revisions to the Blowout Preventer Systems and Well Control Rule | 1014-AA39

Bureau of Safety and Environmental Enforcement—Final Rule Stage
Sequence No. | Title | Regulation Identifier No.
139 | Revisions to Production Safety System Regulations | 1014-AA37

Assistant Secretary for Land and Minerals Management—Proposed Rule Stage
Sequence No. | Title | Regulation Identifier No.
140 | Revisions to the Requirements for Exploratory Drilling on the Arctic Outer Continental Shelf | 1082-AA01

United States Fish and Wildlife Service—Proposed Rule Stage
Sequence No. | Title | Regulation Identifier No.
141 | Migratory Bird Hunting; 2018-2019 Migratory Game Bird Hunting Regulations | 1018-BB73
142 | Migratory Bird Hunting; 2019-2020 Migratory Game Bird Hunting Regulations | 1018-BD10

Bureau of Ocean Energy Management—Proposed Rule Stage
Sequence No. | Title | Regulation Identifier No.
143 | Risk Management, Financial Assurance and Loss Prevention | 1010-AE00

DEPARTMENT OF THE INTERIOR (DOI)

Bureau of Safety and Environmental Enforcement (BSEE)

Proposed Rule Stage

138. Revisions to the Blowout Preventer Systems and Well Control Rule

E.O. 13771 Designation: Deregulatory.

Legal Authority: 43 U.S.C. 1331 to 1356a

Abstract: This proposed rulemaking would revise specific provisions of regulations published in the final Well Control Rule, 81 FR 25888 (April 29, 2016), for drilling, workover, completion and decommissioning operations based on BSEE's consideration of stakeholder input from the 2016 final rule and BSEE's review of that rule in accordance with section 4 of Secretary's Order 3350 (America-First Offshore Energy Strategy), Executive Order (E.O.) 13783 (Promoting Energy Independence and Economic Growth), and section 7 of E.O. 13795 (Implementing an America-First Offshore Energy Strategy).

Timetable:

Action | Date | FR Cite
NPRM | 05/00/18

Regulatory Flexibility Analysis Required: Yes.

Agency Contact: Lakeisha Harrison, Chief, Regulations and Standards Branch, Department of the Interior, Bureau of Safety and Environmental Enforcement, 45600 Woodland Road, Sterling, VA 20166, Phone: 703 787-1552, Fax: 703 787-1555, Email: lakeisha.harrison@bsee.gov.

RIN: 1014-AA395

DEPARTMENT OF THE INTERIOR (DOI)

Bureau of Safety and Environmental Enforcement (BSEE)

Final Rule Stage

139. Revisions to Production Safety System Regulations

E.O. 13771 Designation: Deregulatory.

Legal Authority: 43 U.S.C. 1331 to 1356a

Abstract: This rulemaking would revise the Bureau of Safety and Environmental Enforcement (BSEE) regulations published in the 2016 Final Rule entitled “Oil and Gas and Sulfur Operations on the Outer Continental Shelf—Oil and Gas Production Safety Systems,” 81 FR 61833 (September 7, 2016), and address issues raised by stakeholders regarding that final rule. In accordance with section 4 of Secretary's Order 3350 (America-First Offshore Energy Strategy), Executive Order (E.O.) 13783 (Promoting Energy Independence and Economic Growth), and section 7 of E.O. 13795 (Implementing an America-First Offshore Energy Strategy), BSEE reviewed the 2016 Final Rule to determine whether it potentially burdens the development or use of domestically produced energy resources, and proposed revisions to that Final Rule to reduce unnecessary burdens without adversely impacting safety or the environment.

Timetable:

Action | Date | FR Cite
NPRM | 12/29/17 | 82 FR 61703
NPRM Comment Period End | 01/29/18
Final Action | 05/00/18

Regulatory Flexibility Analysis Required: Yes.

Agency Contact: Lakeisha Harrison, Chief, Regulations and Standards Branch, Department of the Interior, Bureau of Safety and Environmental Enforcement, 45600 Woodland Road, Sterling, VA 20166, Phone: 703 787-1552, Fax: 703 787-1555, Email: lakeisha.harrison@bsee.gov.

RIN: 1014-AA37.

DEPARTMENT OF THE INTERIOR (DOI)

Assistant Secretary for Land and Minerals Management (ASLM)

Proposed Rule Stage

140. • Revisions to the Requirements for Exploratory Drilling on the Arctic Outer Continental Shelf

E.O. 13771 Designation: Deregulatory.

Legal Authority: 43 U.S.C. 1331 to 1356a; 33 U.S.C. 2701

Abstract: This proposed rule would revise specific provisions of the regulations published in the final Arctic Exploratory Drilling Rule, 81 FR 46478 (July 15, 2016), which established a regulatory framework for exploratory drilling and related operations within the Beaufort Sea and Chukchi Sea Planning Areas on the Outer Continental Shelf of Alaska. The rulemaking for this RIN replaces the Bureau of Safety and Environmental Enforcement's RIN 1014-AA40.

Timetable:

Action | Date | FR Cite
NPRM | 10/00/18

Regulatory Flexibility Analysis Required: Yes.

Agency Contact: Bryce Barlan, Regulatory Analyst, Department of the Interior, Bureau of Safety and Environmental Enforcement, 45600 Woodland Road, Sterling, VA 20166, Phone: 703 787-1126, Email: bryce.barlan@bsee.gov.

Deanna Meyer-Pietruszka, Chief, OPRA, Department of the Interior, Bureau of Ocean Energy Management, 1849 C Street NW, Washington, DC 20240, Phone: 202 208-6352, Email: deanna.meyer-pietruszka@boem.gov.

RIN: 1082-AA01.

DEPARTMENT OF THE INTERIOR (DOI)

United States Fish and Wildlife Service (FWS)

Proposed Rule Stage

141. Migratory Bird Hunting; 2018-2019 Migratory Game Bird Hunting Regulations

E.O. 13771 Designation: Fully or Partially Exempt.

Legal Authority: 16 U.S.C. 703 to 711; 16 U.S.C. 742a-j

Abstract: We propose to establish annual hunting regulations for certain migratory game birds for the 2018-2019 hunting season. We annually prescribe outside limits (frameworks), within which States may select hunting seasons. This proposed rule provides the regulatory schedule, describes the proposed regulatory alternatives for the 2018-2019 duck hunting seasons, requests proposals from Indian Tribes that wish to establish special migratory game bird hunting regulations on Federal Indian reservations and ceded lands, and requests proposals for the 2018 spring and summer migratory bird subsistence season in Alaska. Migratory game bird hunting seasons provide opportunities for recreation and sustenance; aid Federal, State, and Tribal governments in the management of migratory game birds; and permit harvests at levels compatible with migratory game bird population status and habitat conditions.

Timetable:

Action | Date | FR Cite
Notice of Public Meeting | 06/15/17 | 82 FR 27521
Public Meeting | 06/21/17 | 82 FR 27521
NPRM | 08/03/17 | 82 FR 36308
NPRM Comment Period End | 09/05/17
NPRM Supplemental | 10/03/17 | 82 FR 46011
NPRM Supplemental Comment Period End | 01/15/18
NPRM; Proposed Frameworks | 02/02/18 | 83 FR 4964
NPRM Comment Period End | 03/05/18
NPRM; Proposed Tribal Regulations | 05/00/18
Final Rule; Final Frameworks | 05/00/18
Final Rule; Final Season Selections | 06/00/18
Final Rule; Final Tribal Regulations | 07/00/18

Regulatory Flexibility Analysis Required: Yes.

Agency Contact: Ronald Kokel, Wildlife Biologist, Division of Migratory Bird Management, Department of the Interior, United States Fish and Wildlife Service, 5275 Leesburg Pike, MS: MB, Falls Church, VA 22041-3808, Phone: 703 358-1714, Email: ronald_kokel@fws.gov.

RIN: 1018-BB73

142. • Migratory Bird Hunting; 2019-2020 Migratory Game Bird Hunting Regulations

E.O. 13771 Designation: Fully or Partially Exempt.

Legal Authority: 16 U.S.C. 703 to 712; 16 U.S.C. 742a-j

Abstract: We propose to establish annual hunting regulations for certain migratory game birds for the 2019-2020 hunting season. We annually prescribe outside limits (frameworks), within which States may select hunting seasons. This proposed rule provides the regulatory schedule, describes the proposed regulatory alternatives for the 2019-2020 duck hunting seasons, requests proposals from Indian tribes that wish to establish special migratory game bird hunting regulations on Federal Indian reservations and ceded lands, and requests proposals for the 2019 spring and summer migratory bird subsistence season in Alaska. Migratory game bird hunting seasons provide opportunities for recreation and sustenance; aid Federal, State, and tribal governments in the management of migratory game birds; and permit harvests at levels compatible with migratory game bird population status and habitat conditions.

Timetable:

Action | Date | FR Cite
NPRM | 05/00/18

Regulatory Flexibility Analysis Required: Yes.

Agency Contact: Ronald Kokel, Wildlife Biologist, Division of Migratory Bird Management, Department of the Interior, United States Fish and Wildlife Service, 5275 Leesburg Pike, MS: MB, Falls Church, VA 22041-3808, Phone: 703 358-1714, Fax: 703 358-2217, Email: ronald_kokel@fws.gov.

RIN: 1018-BD10

DEPARTMENT OF THE INTERIOR (DOI)

Bureau of Ocean Energy Management (BOEM)

Proposed Rule Stage

143. • Risk Management, Financial Assurance and Loss Prevention

E.O. 13771 Designation: Other.

Legal Authority: 43 U.S.C. 1337(p), as amended

Abstract: As directed by E.O. 13795, BOEM has reconsidered its financial assurance policies reflected in Notice to Lessees No. 2016-N01 (September 12, 2016). This rule will modify the policies established in the 2016 Notice to Lessees to ensure operator compliance with lease terms while minimizing unnecessary regulatory burdens, and codify the modifications.

Timetable:

Action | Date | FR Cite
NPRM | 08/00/18

Regulatory Flexibility Analysis Required: Yes.

Agency Contact: Deanna Meyer-Pietruszka, Chief, OPRA, Department of the Interior, Bureau of Ocean Energy Management, 1849 C Street NW, Washington, DC 20240, Phone: 202 208-6352, Email: deanna.meyer-pietruszka@boem.gov.

RIN: 1010-AE00

[FR Doc. 2018-11249 Filed 6-8-18; 8:45 am]

BILLING CODE 4334-63-P